NATIONAL SCIENCE FOUNDATION

U.S. Chief Financial Officer Council; Grants Policy Committee

ACTION: Notice of open stakeholder Webcast meeting and publication of draft Implementation Plan.

SUMMARY: This notice announces an open stakeholder Webcast meeting sponsored by the Grants Policy Committee (GPC) of the U.S. Chief Financial Officers (CFO) Council, as well as the publication of the Committee's draft Implementation Plan for public comment.

DATES: The GPC will hold a Webcast meeting on Tuesday, October 28, 2008 from 2-3:30 p.m., Eastern Time. The Webcast will be broadcast live. The GPC's draft Implementation Plan will be posted on http://www.GPC.gov as of the date of this notice and remain posted until at least November 7, 2008.

ADDRESSES: The GPC October 28 Webcast meeting will be broadcast from and held in Room B-180 of the U.S. Department of Housing and Urban Development (HUD), 451 7th Street, SW., Washington, DC 20410. Seating is limited—the first 50 people to respond, and receive confirmation of the response, can be part of the live audience. Both federal and non-federal employees must R.S.V.P. to reserve a seat by contacting Charisse Carney-Nunes at GPCWebcast@nsf.gov. All who have reserved seating must arrive at the HUD building fifteen minutes prior to broadcast (arrive on the North side of the building). You must have a government-issued photo ID to gain access and will have to go through security screening. The GPC encourages non-federal organizations staffs and members to attend the meeting in person or via Webcast.

Overview: This Webcast will serve several purposes: (1) To update the public on the latest news of the GPC; (2) to present the draft Implementation Plan to the public and allow for public comment; and (3) to update the public on the status of the pilot that will be conducted in furtherance of the Federal Financial Accountability and Transparency Act (Transparency Act) to collect federal grantee subaward data. Webcast presenters will be available for a question & answer period after the presentations.

Further Information about the GPC Webcast: Questions on the Webcast should be directed to Charisse Carney-Nunes, National Science Foundation, 4201 Wilson Boulevard, Arlington, VA 22230; e-mail, GPCWebcast@nsf.gov. Information and materials that pertain to this Webcast meeting, including the call-in telephone number and the agenda will be posted on the Grants Policy Committee's Web site at http://www.GPC.gov on the “Webcasts and Outreach” page. The link to view the Webcast will be posted on this site, along with Webcast instructions. After the meeting, a link to its recording will be posted on http://www.GPC.gov for at least 90 days.

Comments Submission Information: You may submit comments during the Webcast meeting via telephone or e-mail. The call-in telephone number, which may be used only DURING the live Webcast, is 202-708-0995. The e-mail address for comments, which should be used only DURING the Webcast is HUDTV@HUD.GOV. After the Webcast, you may submit comments via e-mail through the close of business on Friday, November 7, 2008. The e-mail address for comments after the Webcast is GPCWebcast@nsf.gov.

SUPPLEMENTARY INFORMATION: This Webcast meeting has been made possible by the cooperation of the National Science Foundation, HUD, and the GPC.

Webcast Materials: Webcast materials including the agenda, the GPC's draft Implementation Plan, Webcast meeting slides, and feedback form are posted at http://www.GPC.gov on the Webcasts and Outreach page.

Purpose of the Webcast meeting: The purpose of the Webcast meeting is threefold: (1) To update the public on the latest news of the GPC; (2) to present the GPC's draft Implementation Plan to the public and allow for public comment; and (3) to update the public on the status of the pilot that will be conducted in furtherance of the Federal Financial Accountability and Transparency Act (Transparency Act) to collect federal grantee subaward data. Presenters will be available for a question and answer period after the presentations. A key purpose of the Webcast meeting is to seek stakeholder input into the language describing the GPC's planned implementation of its strategic plan, including the mapping of its potential products to fulfill the agreed-upon strategic objectives of the GPC. The Webcast materials are being offered to stimulate public input into the GPC's long-term planning and prioritization efforts and to receive input from stakeholders to inform government efforts as they relate to streamlining and stewardship of federal policy and practice relating to grants, cooperative agreements, and federal financial assistance.

Meeting structure and agenda: The October 28th Webcast meeting will have the following structure and agenda:

(1) Welcome;

(2) GPC Update;

(3) Draft Implementation Plan Presentation;

(4) Transparency Act Subaward Pilot update; and

(5) Participants' discussion, questions and comments.

Background: The GPC is a committee of the U.S. Chief Financial Officers (CFO) Council. The Office of Management and Budget (OMB) sponsors the GPC; its membership consists of grants policy subject matter experts from across the Federal Government. The GPC is charged with improving the management of federal financial assistance government-wide. To carry out that role, the committee recommends financial assistance policies and practices to OMB and coordinates related interagency activities. The GPC serves the public interest in collaboration with other Federal Government-wide grants initiatives.

Dated: September 23, 2008.
Thomas N. Cooley,
Director, Office of Budget, Finance and Award Management of the National Science Foundation and Chair of the Grants Policy Committee of the U.S. CFO Council.

Submitted for the National Science Foundation on September 23, 2008.
Suzanne H. Plimpton,
Reports Clearance Officer, National Science Foundation.

[FR Doc. E8-22750 Filed 9-26-08; 8:45 am]

BILLING CODE 7555-01-P